FEDERAL COMMUNICATIONS COMMISSION

[OMB 3060-1253; FRS 17547]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before May 10, 2021. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control No.: 3060-1253.

Title: Section 74.803(c) and (d), Wireless Microphones.

Form No.: N/A.

Type of Review: Extension of a currently approved collection.

Respondents: Individuals or Households, Business or other for-profit; Not-for-profit institutions.

Number of Respondents and Responses: 65 respondents; 815 responses.

Estimated Time per Response: 0.5-2 hours.

Frequency of Response: Recordkeeping, third party disclosure, and on occasion reporting requirement.

Obligation to Respond: Required to obtain or retain benefits. Statutory authority for this information collection is contained in sections 1, 4(i), 4(j), 7(a) 301, 302(a), 303(f), 307(e), and 332 of the Communications Act of 1934, as amended, 47 U.S.C. 151, 154(i), 154(j), 157(a), 301, 302(a), 303(f), 307(e), and 332.

Total Annual Burden: 818 hours.

Total Annual Cost: $55,313.

Privacy Act Impact Assessment: No impact(s).

Nature and Extent of Confidentiality: No information is requested that would require assurance of confidentiality.

Needs and Uses: The Commission will submit this information collection to OMB as an extension after this 60-day comment period to obtain the full three-year clearance from them.

In 2015 the Federal Communications Commission adopted, and in 2017 the Commission affirmed, the modification of Section 74.803—specifically, sections 74.803(c) and (d)—to authorize licensed low power auxiliary station operations (referenced herein as “wireless microphone” operations) on additional frequency bands. Specifically, under section 74.803(c), the Commission permitted licensed wireless microphone operations on the 941.5-944 MHz, the 952.85-956.25 MHz, the 956.45-959.85 MHz, the 6875-6900 MHz, and the 7100-7125 MHz bands, provided the particular coordination requirements were met; under section 74.803(d), the Commission authorized operations on the 1435-1525 MHz band provided that requisite conditions, including coordination, were met. With these revisions, the Commission promoted its goal of accommodating wireless microphone users' needs through access to spectrum resources following the incentive auction and reconfiguration of the TV bands.

Federal Communications Commission.
Marlene Dortch,
Secretary, Office of the Secretary.

[FR Doc. 2021-05000 Filed 3-9-21; 8:45 am]

BILLING CODE 6712-01-P